NUCLEAR REGULATORY COMMISSION

[NRC-2008-0581; Docket ID 52-038]

Nine Mile Point 3 Nuclear Project, LLC and UniStar Nuclear Operating Services, LLC

AGENCY: Nuclear Regulatory Commission.

ACTION: Application for combined license; withdrawal.

SUPPLEMENTARY INFORMATION: By letter dated September 30, 2008, as supplemented by letter dated November 18, 2008, Nine Mile Point 3 Nuclear Project, LLC, and UniStar Nuclear Operating Services, LLC (UniStar), submitted an application to the U.S. Nuclear Regulatory Commission (NRC) for a combined license (COL) for a single unit of the U.S. Evolutionary Power Reactor (U.S. EPR) in accordance with the requirements contained in Title 10 of the Code of Federal Regulations (10 CFR) part 52, “Licenses, Certifications and Approvals for Nuclear Power Plants.” This reactor would be identified as Nine Mile Point 3 Nuclear Power Plant (NMP3NPP) and located adjacent to the current Nine Mile Point Nuclear Station, Unit 1 and Unit 2, in Oswego County, New York.

A notice of receipt and availability of this application was previously published in the Federal Register (73 FR 63998) on October 28, 2008. On December 19, 2008, a subsequent notice was published in the Federal Register (73 FR 77862) announcing the acceptance of the NMP3NPP COL application for docketing in accordance with 10 CFR part 2, “Rules of Practice for Domestic Licensing Proceedings and Issuance of Orders,” and 10 CFR part 52. The docket number established for this application is 52-038.

By letter dated December 1, 2009, UniStar requested that the NRC temporarily suspend the COL application review, including any supporting reviews by external agencies, until further notice (Agencywide Documents Access and Management System (ADAMS) Accession No. ML093430638). The NRC granted the suspension. By letter dated November 26, 2013, UniStar requested the NRC to withdraw the NMP3NPP COL application, including the Safeguards/Security Part of the application, from the docket (ADAMS Accession No. ML13333A287). Pursuant to the requirements in 10 CFR part 2, the Commission grants UniStar its request to withdraw the NMP3NPP COL application.

Documents may be examined, and/or copied for a fee, at the NRC's Public Document Room (PDR), located at One White Flint North, Public File Area O1 F21, 11555 Rockville Pike (first floor), Rockville, Maryland. Publicly available records are accessible electronically from the ADAMS Public Electronic Reading Room on the internet at the NRC Web site, http://www.nrc.gov/reading-rm/adams.html. Persons who do not have access to ADAMS or who encounter problems in accessing the documents located in ADAMS should contact the NRC PDR Reference staff by telephone at 1-800-397-4209, or 301-415-4737 or by email to pdr.resource@nrc.gov.

Dated at Rockville, Maryland, this 31st day of March 2014.
For the Nuclear Regulatory Commission.
Frank Akstulewicz,
Director, Division of New Reactor Licensing, Office of New Reactors.

[FR Doc. 2014-07580 Filed 4-3-14; 8:45 am]

BILLING CODE 7590-01-P